INTERNATIONAL TRADE COMMISSION

[Investigation No. 332-429]

Wheat Trading Practices: Competitive Conditions Between U.S. and Canadian Wheat

AGENCY: United States International Trade Commission.

ACTION: In accordance with the provisions of the Paperwork Reduction Act of 1995 (44 U.S.C. Chapter 35), the Commission has submitted a request for emergency processing for review and clearance of questionnaires to the Office of Management and Budget (OMB). The Commission has requested OMB approval of this submission by COB May 14, 2001.

EFFECTIVE DATE: April 27, 2001.

PURPOSE OF INFORMATION COLLECTION: The forms are for use by the Commission in connection with investigation No. 332-429, Wheat Trading Practices: Competitive Conditions Between U.S. and Canadian Wheat, instituted under the authority of section 332(g) of the Tariff Act of 1930 (19 U.S.C. 1332(g)). This investigation was requested by the United States Trade Representative (USTR). The Commission expects to deliver the results of its investigation to the USTR no later than September 24, 2001.

Summary of Proposal

(1) Number of forms submitted: 2.

(2) Title of form: Purchasers' Questionnaire Wheat Trading Practices: Competitive Conditions Between U.S. and Canadian Wheat and Exporters' Questionnaire Wheat Trading Practices: Competitive Conditions Between U.S. and Canadian Wheat.

(3) Type of request: new.

(4) Frequency of use: Single data gathering scheduled for May-June, 2001.

(5) Description of respondents: U.S. millers, importers, purchasers, and/or processors of Durum or Hard Red Spring wheat and U.S. exporters, merchandisers, and/or shippers of U.S. and/or Canadian Durum and/or Hard Red Spring wheat to Algeria, Brazil, Colombia, Guatemala, Peru, Philippines, South Africa, and/or Venezuela.

(6) Estimated number of respondents: 66 (purchasers and exporters).

(7) Estimated total number of hours to complete the forms: 3,496 hours.

(8) Information obtained from the form that qualifies as confidential business information will be so treated by the Commission and not disclosed in a manner that would reveal the individual operations of a firm.

FOR FURTHER INFORMATION CONTACT: Copies of the forms and supporting documents may be obtained from John Reeder (202-205-3319; reeder@usitc.gov) of the Office of Industries. Comments about the proposals should be directed to the Office of Management and Budget, Office of Information and Regulatory Affairs, Room 10102 (Docket Library), Washington, DC 20503, ATTENTION: Docket Librarian. All comments should be specific, indicating which part of the questionnaire is objectionable, describing the concern in detail, and including specific suggested revisions or language changes. Copies of any comments should be provided to Robert Rogowsky, Director, Office of Operations, U.S. International Trade Commission, 500 E Street, SW, Washington, DC 20436, who is the Commission's designated Senior Official under the Paperwork Reduction Act. Hearing impaired individuals are advised that information on this matter can be obtained by contacting our TTD terminal (telephone No. 202-205-1810). General information concerning the Commission may also be obtained by accessing its Internet server (http://www.usitc.gov).

The public record for this investigation may be viewed on the Commission's electronic docket (EDIS-ON-LINE) at http://dockets/.usitc.gov/eol/public.

Issued: April 30, 2001.
By order of the Commission.
Donna R. Koehnke,
Secretary.

[FR Doc. 01-11246 Filed 5-3-01; 8:45 am]

BILLING CODE 7020-02-P